DEPARTMENT OF THE INTERIOR

Office of Surface Mining Reclamation and Enforcement

30 CFR Part 925

[SATS No. MO-048-FOR; Docket ID: OSM-2019-0001; S1D1S SS08011000 SX064A000 212S180110; S2D2S SS08011000 SX064A000 21XS501520]

Missouri Regulatory Program

AGENCY: Office of Surface Mining Reclamation and Enforcement, Interior.

ACTION: Final rule; approval of amendment.

SUMMARY: We, the Office of Surface Mining Reclamation and Enforcement (OSMRE), are approving an amendment to the Missouri regulatory program (Missouri program) under the Surface Mining Control and Reclamation Act of 1977 (SMCRA or the Act). As a result of Missouri's Red Tape Reduction Initiative (Executive Order 17-03), Missouri proposes amendments and rescissions to its Missouri Coal Mining Regulations in order to reduce the volume of these regulations without reducing the program's requirements. Missouri proposed amendments to multiple sections of its regulations to incorporate by reference the corresponding Federal regulations. Missouri also proposed to rescind multiple sections of its regulations that will be incorporated by reference in the aforementioned proposed amended sections. Missouri intends these revisions to its program to remain as effective as the Federal regulations.

DATES: The effective date is February 28, 2022.

FOR FURTHER INFORMATION CONTACT: Bill Joseph, Chief, Alton Field Division, Office of Surface Mining Reclamation and Enforcement, 501 Belle Street, Suite 216, Alton, Illinois 62002. Telephone: (618) 463-6463 extension 5109. Email: bjoseph@osmre.gov.

SUPPLEMENTARY INFORMATION:

I. Background on the Missouri Program

II. Submission of the Amendment

III. OSMRE's Findings

IV. Summary and Disposition of Comments

V. Statutory and Executive Order Reviews

I. Background on the Missouri Program

Subject to OSMRE's oversight, Section 503(a) of the Act permits a State to assume primacy for the regulation of surface coal mining and reclamation operations on non-Federal and non-Indian lands within its borders by demonstrating that its program includes, among other things, State laws and regulations that govern surface coal mining and reclamation operations in accordance with the Act and consistent with the Federal regulations. See 30 U.S.C. 1253(a)(1) and (7).

Based on these criteria, the Secretary of the Interior conditionally approved the Missouri program effective November 21, 1980. You can find background information on the Missouri program, including the Secretary's findings, the disposition of comments, and conditions of approval of the Missouri program in the November 21, 1980, Federal Register (45 FR 77027). You can also find later actions concerning the Missouri program and program amendments at 30 CFR 925.10, 925.12, 925.15 and 925.16.

II. Submission of the Amendment

By letter dated February 8, 2019 (Administrative Record No. MO-684), Missouri sent us an amendment to its program under SMCRA (30 U.S.C. 1201 et seq.) at its own initiative.

We announced the receipt of the proposed amendment in the May 1, 2019, Federal Register (84 FR 18433). In the same document, we opened the public comment period and provided an opportunity for a public hearing or meeting on the adequacy of the amendment. We did not hold a public hearing or meeting because no one requested one. We did not receive any public comments on the proposed amendment. The public comment period ended on May 31, 2019.

III. OSMRE's Findings

We are approving the amendment as described below. The following are findings we made concerning Missouri's amendment under SMCRA and the Federal regulations at 30 CFR 732.15 and 732.17. Any revisions that we do not specifically discuss below concerning non-substantive wording or editorial changes can be found in the full text of the program amendment available at www.regulations.gov.

Missouri proposes to amend the following sections of the Missouri Coal Mining Regulations to incorporate by reference to corresponding Federal regulations:

10 CSR 40-3.060—Requirements for the Disposal of Excess Soil

Missouri proposes to incorporate by reference the Federal regulations found in 30 CFR 780.35.

10 CSR 40-3.170—Signs and Markers for Underground Operations

Missouri proposes to incorporate by reference the Federal regulations found in 30 CFR part 817, with the exception of 30 CFR 817.10, Information Collection, and a modification to section 817.61(c)(1). As required by 30 CFR 817.61(c)(1) after approval of a state blasting certification program, Missouri will require all blasting operations to be conducted under the direction of a certified blaster. This modification does not make the Missouri regulation less effective than the corresponding federal regulation.

10 CSR 40-4.020—Auger Mining Requirements

Missouri proposes to incorporate by reference the Federal regulations found in 30 CFR 785.20.

10 CSR 40-4.040—Operations on Steep Slopes

Missouri proposes to incorporate by reference the Federal regulations found in 30 CFR 785.15.

10 CSR 40-4.060—Concurrent Surface and Underground Mining

Missouri proposes to incorporate by reference the Federal regulations found in 30 CFR 785.18.

10 CSR 40-4.070—In Situ Processing

Missouri proposes to incorporate by reference the Federal regulations found in 30 CFR 785.22.

10 CSR 40-6.100—Underground Mining Permit Applications—Minimum Requirements for Legal, Financial, Compliance, and Related Information

Missouri proposes to incorporate by reference the Federal regulations found in 30 CFR parts 783 and 784.

We find that Missouri's proposed amendments to these sections do not make its rules or regulations less effective than the corresponding Federal regulations, as the Federal regulations are being incorporated by reference. The proposed modifications were found not to compromise the effectiveness of the incorporated Federal regulations; therefore, we are approving Missouri's revisions.

Missouri also proposes to rescind the following sections of the Missouri Coal Mining Regulations as they have been incorporated in the aforementioned proposed amended sections:

10 CSR 40-3.180—Casing and Sealing of Exposed Underground Openings

10 CSR 40-3.190—Requirements for Topsoil Removal, Storage and Redistribution for Underground Operations

10 CSR 40-3.200—Requirements for the Protection of the Hydrologic Balance for Underground Operations

10 CSR 40-3.210—Requirements for the Use of Explosions for Underground Operations

10 CSR 40-3.220—Disposal of Underground Development Waste and Excess Spoil

10 CSR 40-3.230—Requirements for the Disposal of Coal Processing Waste for Underground Operations

10 CSR 40-3.240—Air Resource Protection for Underground Operations

10 CSR 40-3.250—Requirements for the Protection of Fish, Wildlife and Related Environmental Values and Protection of Fish, Wildlife and Related Environmental Values and Protection Against Slides and Other Damage

10 CSR 40-3.260—Requirements for Backfilling and Grading for Underground Operations

10 CSR 40-3.270—Revegetation Requirements for Underground Operations

10 CSR 40-3.280—Requirements for Subsidence Control Associated With Underground Mining Operations

10 CSR 40-3.290—Requirements for Road and Other Transportation Associated With Underground Operations

10 CSR 40-3.300—Postmining Land Use Requirements for Underground Operations

10 CSR 40-3.310—Coal Recovery, Land Reclamation and Cessation of Operation for Underground Operations

10 CSR 40-6.110—Underground Mining Permit Applications Minimum Requirements for Information on Environmental Resources

10 CSR 40-6.120—Underground Mining Permit Applications Minimum Requirements for Reclamation and Operations Plan

We find that Missouri's proposal to rescind these sections do not make its rules or regulations less effective than the corresponding Federal regulations, as the Federal regulations are being incorporated by reference in the aforementioned proposed amended sections. Therefore, we are approving Missouri's rescissions.

IV. Summary and Disposition of Comments

Public Comments

We asked for public comments on the amendment. As noted in Section II, we did not receive any public comments on this proposed amendment.

Federal Agency Comments

On February 14, 2019, pursuant to 30 CFR 732.17(h)(11)(i) and Section 503(b) of SMCRA, we requested comments on the amendment from various Federal agencies with an actual or potential interest in the Missouri program (Administrative Record No. MO-684-02). We did not receive any comments.

U.S. Environmental Protection Agency (EPA) Concurrence and Comments

Under 30 CFR 732.17(h)(11)(ii), we are required to get a written concurrence from EPA for those provisions of the program amendment that relate to air or water quality standards issued under the authority of the Clean Water Act (33 U.S.C. 1251 et seq.) or the Clean Air Act (42 U.S.C. 7401 et seq.). None of the revisions that Missouri proposed to make in this amendment pertain to air or water quality standards; therefore, we did not ask EPA to concur on the amendment. However, on February 14, 2019, under 30 CFR 732.17(h)(11)(i), we requested comments from the EPA on the amendment (Administrative Record No. MO-684-02). The EPA did not respond to our request.

State Historical Preservation Officer (SHPO) and the Advisory Council on Historic Preservation (ACHP)

Under 30 CFR 732.17(h)(4), we are required to request comments from the SHPO and ACHP on amendments that may have an effect on historic properties. On February 14, 2019, we requested comments on the amendment (Administrative Record No. MO-684-02). We did not receive any comments.

V. OSMRE's Decision

Based on the above finding, we are approving the Missouri amendment that was submitted on February 8, 2019 (Administrative Record No. MO-684). To implement this decision, we are amending the Federal regulations at 30 CFR part 925, which codify decisions concerning the Missouri program. In accordance with the Administrative Procedure Act, this rule will take effect 30 days after the date of publication. Section 503(a) of SMCRA requires that the State's program must demonstrate that the State has the capability of carrying out the provisions of the Act and meeting its purposes. SMCRA requires consistency of State and Federal standards.

VI. Statutory and Executive Order Reviews

Executive Order 12630—Governmental Actions and Interference With Constitutionally Protected Property Rights

This rule does not affect a taking of private property or otherwise have taking implications that would result in private property being taken for government use without just compensation under the law. Therefore, a takings implication assessment is not required. This determination is based on an analysis of the corresponding Federal regulations.

Executive Orders 12866—Regulatory Planning and Review and 13563—Improving Regulation and Regulatory Review

Executive Order 12866 provides that the Office of Information and Regulatory Affairs in the Office of Management and Budget (OMB) will review all significant rules. Pursuant to OMB guidance, dated October 12, 1993, the approval of State program amendments are exempted from OMB review under Executive Order 12866. Executive Order 13563, which reaffirms and supplements Executive Order 12866, retains this exemption.

Executive Order 12988—Civil Justice Reform

The Department of the Interior has reviewed this rule as required by Section 3 of Executive Order 12988. The Department determined that this Federal Register document meets the criteria of Section 3 of Executive Order 12988, which is intended to ensure that the agency review its legislation and proposed regulations to eliminate drafting errors and ambiguity; that the agency write its legislation and regulations to minimize litigation; and that the agency's legislation and regulations provide a clear legal standard for affected conduct rather than a general standard, and promote simplification and burden reduction. Because Section 3 focuses on the quality of Federal legislation and regulations, the Department limited its review under this Executive Order to the quality of this Federal Register document and to changes to the Federal regulations. The review under this Executive Order did not extend to the language of the State regulatory program amendment that the State of Missouri drafted.

Executive Order 13132—Federalism

This rule has potential Federalism implications as defined under Section 1(a) of Executive Order 13132. Executive Order 13132 directs agencies to “grant the States the maximum administrative discretion possible” with respect to Federal statutes and regulations administered by the States. Missouri, through its approved regulatory program, implements and administers SMCRA and its implementing regulations at the state level. This rule approves an amendment to the Missouri program submitted and drafted by the State and, thus, is consistent with the direction to provide maximum administrative discretion to States.

Executive Order 13175—Consultation and Coordination With Indian Tribal Governments

The Department of the Interior strives to strengthen its government-to-government relationship with Tribes through a commitment to consultation with Tribes and recognition of their right to self-governance and tribal sovereignty. We have evaluated this rule under the Department's consultation policy and under the criteria in Executive Order 13175, and we have determined that it has no substantial direct effects on federally recognized Tribes or on the distribution of power and responsibilities between the Federal government and Tribes. Therefore, consultation under the Department's tribal consultation policy is not required. The basis for this determination is that our decision is on the State program and does not include Tribal lands or regulation of activities on Tribal lands. Tribal lands are regulated independently under the applicable, approved Federal program.

Executive Order 13211—Actions Concerning Regulations That Significantly Affect Energy Supply, Distribution, or Use

Executive Order 13211 requires agencies to prepare a Statement of Energy Effects for a rulemaking that is (1) considered significant under Executive Order 12866, and (2) likely to have a significant adverse effect on the supply, distribution, or use of energy. Because this rule is exempt from review under Executive Order 12866 and is not significant energy action under the definition in Executive Order 13211, a Statement of Energy Effects is not required.

Executive Order 13045—Protection of Children From Environmental Health Risks and Safety Risks

This rule is not subject to Executive Order 13045 because this is not an economically significant regulatory action as defined by Executive Order 12866; and this action does not address environmental health or safety risks disproportionately affecting children.

National Environmental Policy Act

Consistent with Sections 501(a) and 702(d) of SMCRA (30 U.S.C. 1251(a) and 1292(d), respectively) and the U.S. Department of the Interior Departmental Manual, part 516, section 13.5(A), State program amendments are not major Federal actions within the meaning of Section 102(2)(C) of the National Environmental Policy Act (42 U.S.C. 4332(2)(C).

National Technology Transfer and Advancement Act

Section 12(d) of the National Technology Transfer and Advancement Act (NTTAA) (15 U.S.C. 3701 et seq.) directs OSMRE to use voluntary consensus standards in its regulatory activities unless to do so would be inconsistent with applicable law or otherwise impractical, (OMB Circular A-119 at p. 14). This action is not subject to the requirements of section 12(d) of the NTTAA because application of those requirements would be inconsistent with SMCRA.

Paperwork Reduction Act

This rule does not include requests and requirements of an individual, partnership, or corporation to obtain information and report it to a Federal agency. As this rule does not contain information collection requirements, a submission to the Office of Management and Budget under the Paperwork Reduction Act (44 U.S.C. 3501 et seq.) is not required.

Regulatory Flexibility Act

This rule will not have a significant economic impact on a substantial number of small entities under the Regulatory Flexibility Act (5 U.S.C. 601 et seq.). The State's submittal, which is the subject of this rule, is based upon corresponding Federal regulations for which an economic analysis was prepared and certification made that such regulations would not have a significant economic effect upon a substantial number of small entities. In making the determination as to whether this rule would have a significant economic impact, the Department relied upon the data and assumptions for the corresponding Federal regulations.

Small Business Regulatory Enforcement Fairness Act

This rule is not a major rule under 5 U.S.C. 804(2), the Small Business Regulatory Enforcement Fairness Act. This rule: (a) Does not have an annual effect on the economy of $100 million; (b) will not cause a major increase in costs or prices for consumers, individual industries, Federal, State, or local government agencies, or geographic regions; and (c) does not have significant adverse effects on competition, employment, investment, productivity, innovation, or the ability of U.S.-based enterprises to compete with foreign-based enterprises. This determination is based on an analysis of the corresponding Federal regulations, which were determined not to constitute a major rule.

Unfunded Mandates Reform Act

This rule does not impose an unfunded mandate on State, local, or Tribal governments, or the private sector of more than $100 million per year. The rule does not have a significant or unique effect on State, local, or Tribal governments or the private sector. This determination is based on an analysis of the corresponding Federal regulations, which were determined not to impose an unfunded mandate. Therefore, a statement containing the information required by the Unfunded Mandates Reform Act (2 U.S.C. 1531 et seq.) is not required.

List of Subjects in 30 CFR Part 925

Intergovernmental relations, Surface mining, Underground mining.

Alfred L. Clayborne,
Regional Director, DOI Unified Region 3, 4 and 6.

For the reasons set out in the preamble, 30 CFR part 925 is amended as set forth below:

PART 925—MISSOURI

1. The authority citation for part 925 continues to read as follows:

Authority: 30 U.S.C. 1201 et seq.

2. In § 925.15 amend the table by adding an entry for “February 8, 2019” in chronological order by “Date of final publication” to read as follows:

§ 925.15 Approval of Missouri regulatory program amendments.

* * * * *

Original amendment submission date | Date of final publication | Citation/description
* * * * * * *
February 8, 2019 | January 28, 2022 | 10 CSR 40-3.060; 40-3.170; 40-3.180; 40-3.190; 40-3.200; 40-3.210; 40-3.220; 40-3.230; 40-3.240; 40-3.250; 40-3.260; 40-3.270; 40-3.280; 40-3.290; 40-3.300; 40-3.310; 40-4.020; 40-4.040; 40-4.060; 40-4.070; 40-6.100; 40-6.110; 40-6.120.

[FR Doc. 2022-01667 Filed 1-27-22; 8:45 am]

BILLING CODE 4310-05-P